DEPARTMENT OF THE INTERIOR

National Park Service

Native American Graves Protection and Repatriation Review Committee: Meeting

AGENCY: National Park Service, Interior.

ACTION: Notice.

Notice is here given in accordance with the Federal Advisory Committee Act, 5 U.S.C. Appendix (1988), of a meeting of the Native American Graves Protection and Repatriation Review Committee (Review Committee). The Review Committee will meet on May 30-31, 2006, at the Westmark Baranof Hotel, 127 North Franklin Street, Juneau, AK 99801, telephone (907) 586-2660. Meeting sessions will begin at 8:30 a.m. and end at 5 p.m each day.

The agenda for the meeting includes an overview of activities of the National NAGPRA Program since the Review Committee's last meeting; a review of documentation submitted as part of a possible dispute between the White Mountain Apache and the Field Museum; a request for a recommendation regarding the disposition of culturally unidentifiable human remains from the State of Iowa; the Review Committee's 2005 report to the Congress; and presentations and statements by Indian tribes, Native Hawaiian organizations, museums, Federal agencies, and the public.

To schedule a presentation to the Review Committee during the meeting, submit a written request with an abstract of the presentation and contact information for the presenters. Persons also may submit written statements for consideration by the Review Committee during the meeting. Send requests and statements to the Designated Federal Officer, NAGPRA Review Committee by U.S. Mail to the National Park Service, 1849 C Street NW. (2253), Washington, DC 20240; or by commercial delivery to the National Park Service, 1201 Eye Street NW., 8th floor, Washington, DC 20005. Because increased security in the Washington, DC, area may delay delivery of U.S. Mail to Government offices, copies of mailed requests and statements should also be faxed to (202) 371-5197.

Transcripts of Review Committee meetings are available approximately eight weeks after each meeting at the National NAGPRA Program office, 1201 Eye Street NW., Washington, DC. To request electronic copies of meeting transcripts, send an e-mail message to Tim_McKeown@nps.gov. Information about NAGPRA, the Review Committee, and Review Committee meetings is available at the National NAGPRA Web site, http://www.cr.nps.gov/nagpra; for the Review Committee's meeting procedures, select “Review Committee,” then select “Procedures.”

The Review Committee was established by the Native American Graves Protection and Repatriation Act of 1990 (NAGPRA), 25 U.S.C. 3001 et seq. Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum and recommending specific actions for developing a process for disposition of such human remains; consulting with Indian tribes and Native Hawaiian organizations and museums on matters within the scope of the work of the committee affecting such tribes or organizations; consulting with the Secretary of the Interior in the development of regulations to carry out NAGPRA; and making recommendations regarding future care of repatriated cultural items. The Review Committee's work is completed during meetings that are open to the public.

Dated: April 27, 2006
C. Timothy McKeown,
Designated Federal Officer,Native American Graves Protection and Repatriation Review Committee.

[FR Doc. E6-7190 Filed 5-10-06; 8:45 am]

BILLING CODE 4312-50-S